DEPARTMENT OF ENERGY

Federal Energy Regulatory Commission

Combined Notice of Filings #1

Take notice that the Commission received the following electric corporate filings:

Docket Numbers: EC11-98-000.

Applicants: Capital Power Income L.P., Atlantic Power Corporation.

Description: Joint Application for Approval under Section 203 of the Federal Power Act of Capital Power Income L.P.

Filed Date: 07/26/2011.

Accession Number: 20110726-5031.

Comment Date: 5 p.m. Eastern Time on Tuesday, August 16, 2011.

Take notice that the Commission received the following electric rate filings:

Docket Numbers: ER11-3553-002.

Applicants: Glacial Energy of New Jersey, Inc.

Description: Glacial Energy of New Jersey, Inc. submits tariff filing per 35.17(b): Deficiency Filing—Glacial New Jersey to be effective 7/25/2011.

Filed Date: 07/25/2011.

Accession Number: 20110725-5129.

Comment Date: 5 p.m. Eastern Time on Monday, August 8, 2011.

Docket Numbers: ER11-3576-002; ER97-3583-006; ER11-3401-003; ER10-3138-002.

Applicants: Denver City Energy Associates, L.P., Golden Spread Electric Cooperative, Inc., Golden Spread Panhandle Wind Ranch, LLC, GS Electric Generating Cooperative Inc.

Description: Notice of Change in Status of Golden Spread Electric Cooperative, Inc. et al.

Filed Date: 07/25/2011.

Accession Number: 20110725-5141.

Comment Date: 5 p.m. Eastern Time on Monday, August 15, 2011.

Docket Numbers: ER11-3822-001.

Applicants: Glacial Energy of New England, Inc.

Description: Glacial Energy of New England, Inc. submits tariff filing per 35: Deficiency Filing—Glacial NE to be effective 7/25/2011.

Filed Date: 07/25/2011.

Accession Number: 20110725-5127.

Comment Date: 5 p.m. Eastern Time on Monday, August 8, 2011.

Docket Numbers: ER11-3824-001.

Applicants: Glacial Energy of Illinois, Inc.

Description: Glacial Energy of Illinois, Inc. submits tariff filing per 35: Deficiency IL to be effective 7/25/2011.

Filed Date: 07/25/2011.

Accession Number: 20110725-5125.

Comment Date: 5 p.m. Eastern Time on Monday, August 8, 2011.

Docket Numbers: ER11-3879-000; ER11-3879-001.

Applicants: Amerigreen Energy, Inc.

Description: Supplemental Information of Amerigreen Energy, Inc.

Filed Date: 07/25/2011.

Accession Number: 20110725-5064.

Comment Date: 5 p.m. Eastern Time on Monday, August 15, 2011.

Docket Numbers: ER11-3992-000.

Applicants: L&P Electric, Inc.

Description: Supplemental Information and Clarifications to Market-Based Rate Application of L&P Electric, Inc.

Filed Date: 07/25/2011.

Accession Number: 20110725-5146.

Comment Date: 5 p.m. Eastern Time on Monday, August 15, 2011.

Docket Numbers: ER11-4111-000.

Applicants: Hudson Ranch Power I LLC.

Description: Hudson Ranch Power I LLC submits tariff filing per 35.12: Application for Market-Based Rate Authority to be effective 12/1/2011.

Filed Date: 07/25/2011.

Accession Number: 20110725-5117.

Comment Date: 5 p.m. Eastern Time on Monday, August 15, 2011.

Take notice that the Commission received the following land acquisition reports:

Docket Numbers: LA11-2-000.

Applicants: Iberdrola Renewables, Inc. Atlantic Renewable Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Dry Lake Wind Power, LLC, Dry Lake Wind Power II LLC, Elk River Windfarm, LLC, Elm Creek Wind, LLC, Elm Creek Wind II LLC, Farmers City Wind, LLC, Flat Rock Windpower LLC, Flat Rock Windpower II LLC, Flying Cloud Power Partners, LLC, Hardscrabble Wind Power LLC, Hay Canyon Wind LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge Wind Farm II, LLC, MinnDakota Wind LLC, Moraine Wind LLC, Moraine Wind II LLC, Mountain View Power Partners III, LLC, New Harvest Wind Project LLC, Northern Iowa Windpower II LLC, Pebble Springs Wind LLC, Providence Heights Wind, LLC, Rugby Wind LLC, San Luis Solar LLC, Shiloh I Wind Project, LLC, Star Point Wind Project LLC, Streator-Cayuga Ridge Wind Power LLC, Trimont Wind I LLC, and Twin Buttes Wind LLC.

Description: Iberdrola Renewables MBR Sellers Q2 2011 Land Acquisition Report.

Filed Date: 07/26/2011.

Accession Number: 20110726-5054.

Comment Date: 5 p.m. Eastern Time on Tuesday, August 16, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 26, 2011.
Nathaniel J. Davis, Sr.,
Deputy Secretary.

[FR Doc. 2011-19465 Filed 8-1-11; 8:45 am]

BILLING CODE 6717-01-P